DEPARTMENT OF HEALTH AND HUMAN SERVICES

[Document Identifier: OS-4040-0014]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before October 4, 2018.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 4040-0014-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collections: Federal Financial Report (SF-425) and Federal Financial Report Attachment (SF-425A).

Type of Collection: Extension.

OMB No.: 4040-0014.

Abstract: Federal Financial Report (SF-425) and Federal Financial Report Attachment (SF-425A) are OMB-approved collections (4040-0014). These information collections are used by grant awardees. The ICs expire on January 31, 2019. We are requesting a three-year clearance of these collections.

Estimated Annualized Burden Table
Forms | Type of respondent | Number of respondents | Number of responses per respondent | Average burden hours per response | Total burden hours
Federal Financial Report (SF-425) | Grant Applicant | 100,000 | 1 | 1 | 100,000
Federal Financial Report Attachment (SF-425A) | Grant Applicant | 100,000 | 1 | 1 | 100,000
Total |  | 200,000 |  |  | 200,000

Terry Clark,
Office of the Secretary, Asst. Paperwork Reduction Act Reports Clearance Officer.

[FR Doc. 2018-19084 Filed 8-31-18; 8:45 am]

BILLING CODE 4151-AE-P